DEPARTMENT OF THE INTERIOR

Bureau of Land Management

[LLWYD01000-L13110000-EJ0000-LXSI016K0000]

Call for Nominations for the Pinedale Anticline Working Group, Wyoming

AGENCY: Bureau of Land Management, Interior.

ACTION: Notice.

SUMMARY: Nominations are being solicited for seven positions on the Pinedale Anticline Working Group (PAWG).

DATES: Complete nominations must be received no later than August 13, 2012.

ADDRESSES: Mail or deliver nominations to Shelley Gregory, Bureau of Land Management, Pinedale Field Office, 1625 West Pine Street, P.O. Box 768, Pinedale, WY 82941, or email to ssgregory@blm.gov.

FOR FURTHER INFORMATION CONTACT: Shelley Gregory, Bureau of Land Management, Pinedale Field Office, 1625 West Pine Street, P.O. Box 768, Pinedale, WY 82941; 307-315-0612, ssgregory@blm.gov.

SUPPLEMENTARY INFORMATION: The PAWG was established by the Environmental Impact Statement Record of Decision (ROD) for the Pinedale Anticline Project Area (PAPA) on July 27, 2000, and carried forward with the release of the ROD for the PAPA Supplemental Environmental Impact Statement on September 12, 2008. The Secretary of the Interior renewed the PAWG charter on August 3, 2010.

The PAWG is a Federal Advisory Committee Act group which develops recommendations and provides advice to the Bureau of Land Management (BLM) on mitigation, monitoring and adaptive management in the PAPA.

PAWG duties and responsibilities are as follows:

1. Develop recommendations for the BLM regarding matters relating to monitoring and mitigation of oil and gas development as described in the PAPA ROD. At the direction of the Designated Federal Officer, the PAWG may review and analyze information, recommend issues for evaluation and provide advice on the issues presented.

2. Review the implementation of construction and rehabilitation operations through an annual field inspection to provide advice to ensure that the mitigation measures are reasonable and effective.

3. Advise the BLM on working with stakeholders to develop or enhance resource management programs and objectives.

4. Make recommendations on future PAWG resource management priorities.

Nominations are being solicited for persons representing any of the following categories:

1. Federal grazing permit or lease holders within the area for which the PAWG is organized and interests associated with grazing;

2. Interests associated with transportation or rights-of-way;

3. Land owners adjacent to the area for which the PAWG is organized and interests associated with land ownership;

4. Nationally or regionally recognized environmental organizations;

5. Dispersed recreation interests (i.e. hunter, angler, outdoor recreation, off-highway vehicle users, or commercial recreation activities);

6. Those holding State, county, or local elected office;

7. Those employed by a State agency responsible for the management of natural resources, land or water;

8. Those employed as academicians by a natural resource management or natural sciences organization (i.e., museum, university); or

9. Those employed by the local government.

Nomination packages should contain the following information:

1. Name of Resource Advisory Council to be considered for;

2. Specific area of interest nominee seeks to represent;

3. Full name of nominee;

4. Business address;

5. Home address;

6. Mailing address;

7. Business phone;

8. Home phone;

9. Email address;

10. Occupation/title;

11. Education;

12. Work history;

13. Career/education/experience highlights;

14. Experience or knowledge of the Council's geographic area of jurisdiction;

15. Experience working with disparate groups to achieve collaborative solutions;

16. Any BLM permits, leases or licenses held by nominee;

17. Whether or not nominee is a registered lobbyist;

18. Original signature and date;

19. Two letters of reference from interests or organizations to be represented; and

20. A current resume.

A group nominating more than one person should indicate a preferred order of appointment.

Members are expected to attend all scheduled PAWG meetings. Members are appointed for 2-year terms and may be reappointed to additional terms at the discretion of the Secretary of the Interior.

Additional information about the PAWG, its membership and activities, and the nomination process can be found at: http://www.blm.gov/wy/st/en/field_offices/pinedale/pawg.html.

Note: The Obama Administration prohibits individuals who are currently federally registered lobbyists to serve on all FACA and non-FACA boards, committees or councils.

Authority: 43 CFR 1784.6-1(c); 43 CFR 1784.4-1.

Donald A. Simpson,
State Director.

[FR Doc. 2012-17006 Filed 7-11-12; 8:45 am]

BILLING CODE 4310-22-P